DEPARTMENT OF LABOR

Employment and Training Administration

[TA-W-65,631]

Metokote Corporation; La Peer, MT; Notice of Termination of Investigation

Pursuant to Section 221 of the Trade Act of 1974, as amended, an investigation was initiated on March 18, 2009 in response to a worker petition filed by a company official on behalf of workers of Metokote Corporation, La Peer, Montana.

The petitioner has requested that the petition be withdrawn. Consequently, the investigation has been terminated.

Signed at Washington, DC, this 27th day of March 2009.
Richard Church,
Certifying Officer, Division of Trade Adjustment Assistance.

[FR Doc. E9-10236 Filed 5-4-09; 8:45 am]

BILLING CODE 4510-FN-P